DEPARTMENT OF AGRICULTURE

Forest Service

RIN 0596-AB90

Forest Transportation System Analysis; Revisions to Road Management Policy

AGENCY: Forest Service, USDA.

ACTION: Notice of issuance of final agency directive.

SUMMARY: The Forest Service is issuing a final directive that incorporates direction previously issued in the Forest Service directive system as Interim Directive (ID) 7710-2001-3 and ID 7710-2001-1, with minor clarifications. This final directive provides internal administrative direction to guide Forest Service employees in the improvement of the analysis of and decisionmaking about the forest transportation system. The final directive is issued to the Forest Service Manual (FSM) Title 7700—Engineering, Chapter 7710—Transportation Atlas, Records, and Analysis, as Amendment 7700-2003-2.

EFFECTIVE DATE: The final directive is effective December 16, 2003.

ADDRESSES: The final directive, which includes a digest of the summary of changes and the revised directive text in its entirety, is available electronically via the World Wide Web/Internet at http://www.fs.fed.us/im/directives/fsm/7710. Single paper copies of the directive also are available by contacting the USDA Forest Service, Engineering Staff (Mail Stop 1101), 1400 Independence Avenue, SW., Washington, DC 20250-1101.

FOR FURTHER INFORMATION CONTACT: Deborah Beighley or Nelson Hernandez, Engineering Staff, Forest Service, at (703) 605-4617 and (703) 605-4613, respectively.

SUPPLEMENTARY INFORMATION:

On January 12, 2001, the Forest Service concurrently adopted revised final regulations at 36 CFR part 212 (66 FR 3206) and revised agency directives in Forest Service Manual (FSM) Chapter 7700—Zero Code and Chapter 7710—Transportation Atlas, Records, and Analysis (66 FR 3219) to guide transportation planning, analysis, and management, especially road management on National Forest System lands. These regulations and directives together comprise what is referred to as the Forest Service Road Management Strategy.

The final rule at 36 CFR part 212 directs the Responsible Official of each National Forest, Grassland, or other unit of the National Forest System to perform a comprehensive analysis of the road system within the unit and to document the overall forest transportation system in a transportation atlas.

The directive at FSM Chapter 7710 (Amendment 7700-2001-3) established standards for creation of the road atlas and for determining the scope and scale of roads analyses needed to inform road management decisions; that is, road construction, reconstruction, and decommissioning. Additionally, this revision of FSM Chapter 7710 included interim requirements that, rather than addressing the transportation atlas, record, or analysis, imposed a significant restriction on road construction or reconstruction in inventoried roadless areas and contiguous unroaded areas until a forest-scale roads analysis is completed and incorporated into the Forest plan.

Upon adoption of the road management final rule and directives in January 2001, the Department and the agency reviewed those documents to determine if there were impediments to implementation. These reviews led the agency to initiate several Interim Directives (IDs).

The first was ID 7710-2001-1, issued May 31, 2001 (66 FR 44590), which encouraged reliance on local expertise and authority over forest-level issues as much as possible. The next two IDs (7710-2001-2 and 2400-2001-3) issued July 27, 2001 (66 FR 44111), implemented the Chief's June 7, 2001, announcement to manage and protect inventoried roadless areas as an important component of the National Forest System and to reserve the authority to make decisions, except in specific circumstances, regarding road management activities and timber harvesting in those areas. In a letter to Regional Foresters dated June 12, 2001, the Deputy Chief for National Forest System, noting the Chief's June 7, announcement, asked Regional Foresters and Forest Supervisors to review the road management policy to identify any provisions that they believed should be revised.

Further review of the road management policy resulted in the issuance of two new IDs (7710-2001-3 and 1920-2001-1) issued December 14, 2001 (66 FR 65796), which separated interim requirements related to road construction and reconstruction in inventoried roadless areas from the roads analysis direction in FSM Chapter 7710 and relocated the modified interim requirements to FSM Chapter 1920—Land and Resource Management Planning.

Over 72,000 responses in the form of letters, faxes, and e-mail messages were received on the three different Federal Register notices regarding the five IDs concerning the management of the forest transportation system analysis and roadless area protection. These comments came from private citizens, elected officials, and from groups and individuals representing businesses, private organizations, and Federal agencies. Responses consisted of over 9,500 original responses and over 62,500 form letters.

Public comment on the five IDs addressed a wide range of topics, many of which were directed at management of roadless areas and issues associated with the ID 1920-2001-1 to FSM Chapter 1920. Many people supported the IDs to FSM Chapter 7710, which provided for better inventory, analysis, and management of the Forest Service roads system, and separated direction for managing roads from direction on managing National Forest System land. Some respondents requested that the Forest Service revise the ID to FSM Chapter 7710 to clarify the definition of a road and the need for and content of a roads analysis.

This final directive to FSM 7710 represents the culmination of the agency's internal and public reviews of the practices concerning management of the forest transportation system. The agency has decided to incorporate the current ID direction into Amendment 7700-2003-2 to FSM 7710, with some minor clarifications. Comments regarding ID 1920-2001-1 to FSM Chapter 1920 on roadless area management will be addressed when the Amendment to that chapter is finalized.

Dated: December 8, 2003.
Dale N. Bosworth,
Chief.

[FR Doc. 03-30871 Filed 12-15-03; 8:45 am]

BILLING CODE 3410-11-P